DEPARTMENT OF TRANSPORTATION

Federal Highway Administration

[Docket No. FHWA-2006-25474]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on June 2, 2006. We are required to publish this notice in the Federal Register by the Paperwork Reduction Act of 1995.

DATES: Please submit comments by September 14, 2006.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2006-25474.

FOR FURTHER INFORMATION CONTACT: Bethaney Bacher, 202-366-4196, or Matthew Leffler Schulman, 202-366-1929, Office of Natural & Human Environment, Federal Highway Administration, Department of Transportation, 400 Seventh Street, SW., Washington, DC 20590. Office hours are from 8 a.m. to 5 p.m., Monday through Friday, except Federal holidays.

SUPPLEMENTARY INFORMATION: Title: Evaluate the Effects of National Scenic Byways Program Grants.

Background: Title 23, Section 162 of the United States Code describes the creation of the National Scenic Byways Program. This legislation was most recently amended in 2005 upon passage of the P.L. 109-59 Safe, Accountable, Flexible, and Efficient Transportation Equity Act—A Legacy for Users (SAFETEA-LU). The legislation also includes provisions for review and dissemination of grant monies by the U.S. Secretary of Transportation. Grant applications are solicited on an annual basis. Eligible projects are on State designated byways, National Scenic Byways and All-American Roads, or Indian tribe scenic byways. Applications are completed by Federal, State, or local governmental agencies; Tribal governments; and non-profit organizations. The application information is collected electronically via the online Grant system and used to determine project eligibility. We are seeking approval from OMB for the forms used to collect the application information and used on www.grants.gov. Additional information on the National Scenic Byways Program and its grant program is available at www.bywaysonline.org.

Respondents: An estimated total of 60, to include 50 State Departments of Transportation, the District of Columbia and Puerto Rico, Federal Land Management Agencies, State and local governments, non-profit agencies and Tribal Governments. It is estimated that 400 applications will be received annually.

Frequency: Annual.

Estimated Average Burden per Response: 40 hours.

Estimated Total Annual Burden Hours: 16,000 hours.

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued on: August 9, 2006.
James R. Kabel,
Chief, Management Programs and Analysis Division.

[FR Doc. E6-13394 Filed 8-14-06; 8:45 am]

BILLING CODE 4910-22-P